SECURITIES AND EXCHANGE COMMISSION

[Release No. 34-72332A; File No. SR-FINRA-2014-020]

Self-Regulatory Organizations; Financial Industry Regulatory Authority, Inc.; Notice of Designation of a Longer Period for Commission Action on Proposed Rule Change To Adopt FINRA Rule 2081, Prohibited Conditions Relating to Expungement of Customer Dispute Information; Correction

June 5, 2014.

Correction

In FR Vol. 79, No. 112 beginning on page 33625 for Wednesday, June 11, 2014, the self-regulatory organization's name was incorrectly stated in the title. The correct name is Financial Industry Regulatory Authority, Inc.

Kevin M. O'Neill,
Deputy Secretary.

[FR Doc. 2014-14318 Filed 6-18-14; 8:45 am]

BILLING CODE 8011-01-P